DEPARTMENT OF LABOR

Employment and Training Administration

[TA-W-64,880]

America's Business Operations, Dell USA L.P., Round Rock, TX; Notice of Termination of Investigation

Pursuant to Section 221 of the Trade Act of 1974, as amended, an investigation was initiated on January 13, 2009 in response to a petition on behalf of workers of America's Business Operations, Dell USA L.P., Round Rock, Texas.

The petitioners have requested that the petition be withdrawn. Consequently, the investigation has been terminated.

Signed at Washington, DC, this 18th day of March 2009.
Elliott S. Kushner,
Certifying Officer, Division of Trade Adjustment Assistance.

[FR Doc. E9-6517 Filed 3-24-09; 8:45 am]

BILLING CODE 4510-FN-P